DEPARTMENT OF JUSTICE

Notice of Lodging of Consent Decree Under the Comprehensive, Environmental Response, Compensation and Liability Act (“CERCLA”)

In accordance with Departmental policy, 28 CFR 50.7, notice is hereby given that on March 24, 2000 a proposed consent decree in Civil Action No. 00-T-363-N was lodged with the United States District Court for the Middle District of Alabama, Northern Division.

In this action the United states sought injunctive relief and recovery of future response costs under sections 106(a) and 107 of CERCLA, 42 U.S.C. 9606(a) and 9607, with respect to the TH Agriculture & Nutrition Superfund Site in Montgomery, Alabama (“the Site”).

Under a proposed consent Decree, TH Agriculture & Nutrition, L.L.C, the present owner and operator of the Site, Astro Packaging Inc., the present owner and former operator, Elf-Atochem North America Inc., and Industrial Chemicals Inc., former owner and operators of the Site, have agreed to perform the remedy chosen by EPA to clean up the Site, pay the government's future response costs in settlement of the government's claims under Sections 106 and 107 of CERCLA, 42 U.S.C. 9606 and 9607.

The Department of Justice will receive, for a period for thirty (30) days from the date of this publication, comments relating to the proposed consent decree. Comments should be addressed to the Assistant Attorney General for the Environment and Natural Resources Division, Department of Justice, Washington, DC 20044-7611, and should refer to United States v. TH Agriculture & Nutrition, L.L.C Elf Atochem North America Inc., Industrial Chemicals Inc., and Astro Packaging, Inc. (M.D. AL), DOJ # 90-1-3-1426/1.

The proposed consent decree may be examined at the Office of the United States Attorney, Montgomery, Alabama, the Region 4 Office of the Environmental Protection Agency, 61 Forsyth Street, Atlanta, Georgia 30303, and at the Consent Decree Library, Post Office Box 7611, Washington, DC 20044-7611. A copy of the proposed consent decree may be obtained by mail from the Consent Decree Library, Post Office Box 7611, Washington, DC 20044-7611. In requesting a copy please refer to the referenced case and enclose a check in the amount of 25 cents per page for reproduction costs, payable to the Consent Decree Library.

Joel M. Gross,
Chief, Environmental Enforcement Section, Environment and Natural Resources Division.

[FR Doc. 00-9159 Filed 4-12-00; 8:45 am]

BILLING CODE 4410-15-M